DEPARTMENT OF DEFENSE

Office of the Secretary

[Docket ID DOD-2011-OS-0012]

Privacy Act of 1974; System of Records

AGENCY: Defense Information Systems Agency, DoD.

ACTION: Notice to delete three systems of records.

SUMMARY: The Defense Information Systems Agency is deleting three systems of records notices in its existing inventory of record systems subject to the Privacy Act of 1974, (5 U.S.C. 552a), as amended.

DATES: This proposed action will be effective without further notice on March 16, 2011 unless comments are received which result in a contrary determination.

ADDRESSES: You may submit comments, identified by dock number and/RIN number and title, by any of the following methods:

• Federal Rulemaking Portal: http://www.regulations.gov Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Jeanette M. Weathers-Jenkins at (703) 681-2103, or Defense Information Systems Agency, 5600 Columbia Pike, Room 933-I, Falls Church, VA 22041-2705.

SUPPLEMENTARY INFORMATION: The Defense Information Systems Agency systems of records notices subject to the Privacy Act of 1974, (5 U.S.C. 552a), as amended, have been published in the Federal Register and are available from the FOR FURTHER INFORMATION CONTACT address above.

The Defense Information Systems Agency proposes to delete three systems of records notices from its inventory of record systems subject to the Privacy Act of 1974 (5 U.S.C. 552a), as amended. The proposed deletion is not within the purview of subsection (r) of the Privacy Act of 1974, (5 U.S.C. 552a), as amended, which requires the submission of a new or altered system report.

Dated: February 8, 2011.
Morgan F. Park,
Alternate OSD Federal Register Liaison Officer, Department of Defense.

Deletions:

K240.01

Personnel Security Investigative Dossier File (PSIDF) (August 23, 1995, 60 FR 43777).

Reason:

The personnel security investigative Dossier (PSIDF) files are not stored at DISA. PSIDF are stored at military central adjudication facilities, U.S. Office of Personnel Management, Defense Intelligence Agency, Washington headquarters adjudication facility, Defense Security Service, and Defense Industrial Security Clearance Office.

K240.04

Identification Badge System (February 22, 1993, 58 FR 10562).

Reason:

The identification badge system does not contain Personally Identifiable Information that is directly solicited, collected, and under the control of a Federal agency or component from which there is specific retrieval of information using a personal identifier (i.e., the name of the individual or by some identifying number, symbol, or other identifying particular assigned to the individual such as SSN, date of birth, symbol, etc.).

K240.07

Vehicle and Parking Registration Card (February 22, 1993, 58 FR 10562).

Reason:

The vehicle and parking registration card function is now managed by Department of Army, Fort Meade.

[FR Doc. 2011-3204 Filed 2-11-11; 8:45 am]

BILLING CODE 5001-06-P